INTERNATIONAL TRADE COMMISSION

[Investigation No. 337-TA-604]

In the Matter of Certain Sucralose, Sweeteners Containing Sucralose, and Related Intermediate Compounds Thereof; Notice of Commission Determination Not To Review an Initial Determination Granting the Motion of JK Sucralose To Intervene as Respondent

AGENCY: U.S. International Trade Commission.

ACTION: Notice.

SUMMARY: Notice is hereby given that the U.S. International Trade Commission has determined not to review the initial determination (“ID”) of the presiding administrative law judge (“ALJ”), granting the motion of JK Sucralose (“JK”) to intervene as respondent.

FOR FURTHER INFORMATION CONTACT: James A. Worth, Office of the General Counsel, U.S. International Trade Commission, 500 E Street, SW., Washington, DC 20436, telephone (202) 205-3065. Copies of non-confidential documents filed in connection with this investigation are or will be available for inspection during official business hours (8:45 a.m. to 5:15 p.m.) in the Office of the Secretary, U.S. International Trade Commission, 500 E Street, SW., Washington, DC 20436, telephone (202) 205-2000. General information concerning the Commission may also be obtained by accessing its Internet server (http://www.usitc.gov). The public record for this investigation may be viewed on the Commission's electronic docket (EDIS) at http://edis.usitc.gov. Hearing-impaired persons are advised that information on this matter can be obtained by contacting the Commission's TDD terminal on (202) 205-1810.

SUPPLEMENTARY INFORMATION: This investigation was instituted on May 10, 2007, based upon a complaint filed on behalf of Tate & Lyle Technology Ltd. of London, United Kingdom (“Tate & Lyle”) on April 6, 2007 and supplemented on April 13, 18, 23, and 25. 72 FR 26645 (May 10, 2007). The complaint alleged a violation of subsection (a)(1)(B) of section 337 of the Tariff Act of 1930 in the importation into the United States, the sale for importation, and the sale within the United States after importation of certain sucralose, sweeteners containing sucralose, and related intermediate compounds thereof by reason of infringement of various claims of United States Patent Nos. 5,470,969; 5,034,551; 4,980,463; 5,498,709; and 7,049,435.

JK moved to intervene as a respondent in the investigation. JK asserted before the ALJ that it is a manufacturer of sucralose with its principal place of business at No. 118 Renming East Road, Sheyang County, Jiangsu 224300, P.R. China. According to JK, two of the named respondents, Beijing Forbest Chemical Co., Ltd. and Forbest International USA L.L.C., are customers of sucralose manufactured by JK. JK asserted that the complainant seeks relief which could apply directly to JK, including relief specific to its customers and general relief prohibiting the importation of infringing sucralose. Tate & Lyle opposed this motion. The Commission investigative attorney agreed with JK.

The ALJ granted the motion, finding that it was timely, that JK has neither requested, nor will require, an extension of the target date, that JK has an interest relating to the subject matter of the investigation, that JK's interests are not adequately represented by any of the named parties, that JK's motion will not prejudice any of the existing parties, and that there is good cause to grant JK's motion to intervene. No petitions for review of the subject ID have been filed.

Having reviewed the relevant portions of the record, the Commission has determined not to review the subject ID. This action is taken under the authority of section 337 of the Tariff Act of 1930, as amended (19 U.S.C. 1337), and of §§ 210.19 and 210.42(h)(3) of the Commission's Rules of Practice and Procedure (19 CFR 210.19, 210.42(h)(3)).

By order of the Commission.
Issued: August 15, 2007.
Marilyn Abbott,
Secretary to the Commission.

[FR Doc. E7-17085 Filed 8-28-07; 8:45 am]

BILLING CODE 7020-02-P